Title 3—

The President

Executive Order 14121 of March 27, 2024

Recognizing and Honoring Women's History

By the authority vested in me as President by the Constitution and the laws of the United States of America, it is hereby ordered as follows:

Section 1. Policy. Women and girls of all backgrounds have shaped our country's history, from the ongoing fight for justice and equality to cutting-edge scientific advancements and artistic achievements. Yet these contributions have often been overlooked. We must do more to recognize the role of women and girls in America's story, including through the Federal Government's recognition and interpretation of historic and cultural sites.

It is the policy of my Administration to recognize and honor the diverse trailblazers—including women and girls—who have contributed to the fabric of our Nation. One of the National Park Service's important functions is serving as the Nation's storyteller by managing a constellation of sites on behalf of the American public that, together, help preserve and honor different chapters in our Nation's history. The National Park Service honors trailblazing women and their contributions to the Nation, from Harriet Tubman and Eleanor Roosevelt, to Rosie the Riveter and Mamie Till-Mobley. Still, women's history is vastly underrepresented in our National Park System, creating an important opportunity to strengthen our Nation's recognition of the role of women in shaping this country.

This order directs actions that will strengthen the Federal Government's recognition of women's history and the achievements of women and girls from all backgrounds. It builds on steps I have taken to advance equity and equality across the Federal Government and to help tell a more complete story of our Nation's history, including through Executive Order 14020 of March 8, 2021 (Establishment of the White House Gender Policy Council), Executive Order 13985 of January 20, 2021 (Advancing Racial Equity and Support for Underserved Communities Through the Federal Government), and Executive Order 14091 of February 16, 2023 (Further Advancing Racial Equity and Support for Underserved Communities Through the Federal Government). By honoring the women leaders of the past, we tell a more complete story of America and help build a more equal and equitable present and future.

Sec. 2. Definitions. For purposes of this order:

(a) The term “sites of national importance” includes National Park “System units” as defined in 54 U.S.C. 100102 (by reference to 54 U.S.C. 100501), national monuments designated by the Congress or by the President pursuant to 54 U.S.C. 320301, and National Historic Landmarks designated under 36 C.F.R. part 65.

(b) The term “theme studies” means studies conducted by the National Park Service pursuant to 36 C.F.R. 65.5(a) to identify historic properties in the United States that are nationally significant to a specific area of American history.

Sec. 3. Recognizing and Honoring Women's History. (a) Within 180 days of the date of this order, to strengthen the Federal Government's recognition of women's history, the Secretary of the Interior shall submit a report to the President that:

(i) includes an assessment of existing sites of national importance that are directly related to women's history, whether managed by the Department of Defense, the Department of the Interior, the Department of Agriculture, the Department of Commerce, or any other executive branch entity; and

(ii) identifies opportunities within sites of national importance to highlight important figures and chapters in women's history.

(b) To strengthen the Federal Government's recognition of women's history:

(i) The Secretary of the Interior shall conduct an overview theme study specific to women's history that identifies major topics in women's history to be addressed by a series of subsequent theme studies. The overview theme study and plan for additional studies shall address prominent women and girls in key periods of United States history, such as pre-European contact, Colonial America, the American Revolution, the abolition and suffrage movements, the Civil War and Reconstruction, the Progressive Era, the Great Depression and New Deal, World War II and post-war, the civil rights and women's rights movements, and contemporary America, among other topics. It also shall highlight women and girl leaders in advocacy and social movements, defense, diplomacy, education, law, medicine, the sciences, conservation and environmental protection, sports, the arts, or other professions and disciplines, as appropriate.

(ii) The Secretary of the Interior shall review previously completed theme studies and issue a report to help ensure representation of women's history in sites of national importance. This review of completed theme studies should include, among others, sites of national importance focused on or linked with the histories of Latino Americans; Asian Americans and Pacific Islanders; African Americans; people of Indigenous descent; and lesbian, gay, bisexual, transgender, queer, and intersex Americans; as well as American civil rights and labor histories. The report shall adopt an intersectional approach by including women from different backgrounds and communities and shall reflect diversity in factors such as gender, race, sexual orientation, gender identity, ethnicity, religion, Tribal affiliation, disability, age, geography, income, and socioeconomic status.

(iii) To inform relevant actions the Department of the Interior will take over the next 10 years, the Secretary of the Interior shall request recommendations from the National Park System Advisory Board on ways to improve the recognition of women's history across Federal parks, lands, and programs, including through historic designations and national monument designations. The Secretary of the Interior shall request that the National Park System Advisory Board produce interim recommendations to the Secretary within 270 days of the date of this order and produce final recommendations within 1 year of the date of this order.

(c) The Secretary of the Interior shall make available the findings from the overview theme study and series of subsequent theme studies conducted pursuant to subsection (b)(i) of this section to the Director of the Smithsonian American Women's History Museum and the corresponding council established in 20 U.S.C. 80t-2, for consideration, as appropriate, in developing their own exhibits.

Sec. 4. Implementation. The Secretary of the Interior shall consult with the Assistant to the President and Director of the White House Gender Policy Council, the Assistant to the President and Director of the Domestic Policy Council, and the Chair of the Council on Environmental Quality in implementing this order.

Sec. 5. General Provisions. (a) Nothing in this order shall be construed to impair or otherwise affect:

(i) the authority granted by law to an executive department or agency, or the head thereof; or

(ii) the functions of the Director of the Office of Management and Budget relating to budgetary, administrative, or legislative proposals.

(b) This order shall be implemented consistent with applicable law and subject to the availability of appropriations.

(c) This order is not intended to, and does not, create any right or benefit, substantive or procedural, enforceable at law or in equity by any party against the United States, its departments, agencies, or entities, its officers, employees, or agents, or any other person.

THE WHITE HOUSE,

March 27, 2024.

[FR Doc. 2024-06931

Filed 3-29-24; 8:45 am]

Billing code 3395-F4-P